DEPARTMENT OF ENERGY

Federal Energy Regulatory Commission

[Project No. 9028-012]

Banister Hydro, Inc.; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 9028-012.

c. Date filed: July 26, 2024.

d. Applicant: Banister Hydro, Inc. (Banister Hydro).

e. Name of Project: Halifax Hydroelectric Project (Halifax Project or project).

f. Location: On the Banister River, near the Town of Halifax in Halifax County, Virginia.

g. Filed Pursuant to: Federal Power Act 16 U.S.C. 791(a)-825(r).

h. Applicant Contact: Lewis Loon, General Manager—Operations and Maintenance USA, KEI (USA) Power Management Inc., 423 Brunswick Ave., Gardiner, ME 04345; (207) 203-3027; lewis.loon@kruger.com.

i. FERC Contact: Chris Millard at (202) 502-8256, or christopher.millard@ferc.gov.

j. Cooperating agencies: Federal, state, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 24, 2024.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Halifax Hydroelectric Project (P-9028-012).

m. The application is not ready for environmental analysis at this time.

n. The Halifax Hydroelectric Project consists of the following existing facilities: (1) a 682-foot-long and 36-foot-high dam, with a 301-foot-long concrete spillway (consisting of a 24-foot-long fixed weir, twelve 3-foot-wide piers, eleven 20-foot-wide gated bays, and a 21-foot-long fixed weir), a 73-foot-8-inch-long integral powerhouse and intake structure, and a 307-foot-8-inch-long non-overflow structure (consisting of a 57-foot-6-inch-long concrete gravity wall, 203-foot-2-inch-long sheetpile cells with earthfill, and a 47-foot-long earthfill section); (2) an approximately 374-acre impoundment with a gross storage capacity of 3,510 acre-feet at a normal water surface elevation of 351.3 feet mean sea level (MSL); (3) two 455-kilowatt (kW) turbine-generator units and a 875-kW turbine-generator unit for a total installed capacity of 1,785 kW; (4) 4.16-kilovolt (kV) generator leads, a 4.16/13.2-kV transformer, and a 512-foot-long transmission line; and (5) appurtenant facilities.

The Halifax Project operates in a run-of-river mode with a continuous minimum flow of 5 cubic feet per second (cfs), or inflow, whichever is less. There is minimal to no available usable storage behind the dam and if river flow is less than 135 cfs, all water is spilled over the dam. The project is typically operated remotely in automatic control mode. Banister Hydro is not proposing any new project facilities or changes to the operation of the project.

From 2019 to 2023, average annual generation at the Halifax Project was 2,403 megawatt-hours.

o. A copy of the application can be viewed on the Commission's website at https://www.ferc.gov, using the “eLibrary” link. Enter the docket number, excluding the last three digits in the docket number field, to access the document (P-9028). For assistance, contact FERC at FERCOnlineSupport@ferc.gov, or call toll-free, (866) 208-3676 or (202) 502-8659 (TTY).

You may also register online at https://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Milestone | Target date
Issue Deficiency Letter (if necessary) | October 2024.
Request Additional Information | October 2024.
Issue Acceptance Letter | January 2025.
Issue Scoping Document 1 for comments | February 2025.
Issue Scoping Document 2 (if necessary) | April 2025.

Final amendments to the application must be filed with the Commission no later than 30 days from the issuance date of the notice of ready for environmental analysis.

Dated: August 7, 2024.
Debbie-Anne A. Reese,
Acting Secretary.

[FR Doc. 2024-18059 Filed 8-13-24; 8:45 am]

BILLING CODE 6717-01-P